DEPARTMENT OF ENERGY

Federal Energy Regulatory Commission

[Project No. 2246-047]

Yuba County Water Agency; Notice of Application for Temporary Amendment of License and Soliciting Comments, Motions To Intervene, and Protests

April 14, 2005.

Take notice that the following application has been filed with the Commission and is available for public inspection.

a. Type of Application: Request to amend license to include installation of a full-flow bypass for the Narrows II facility and implement more stringent ramping and flow fluctuation criteria for flows downstream of the Narrows II facility.

b. Project Number: P-2246-047.

c. Date Filed: March 29, 2005.

d. Applicant: Yuba County Water Agency.

e. Name of Project: Yuba River Development Project (FERC No. 2246).

f. Location: The project is located on the North Yuba River, in Yuba, Sierra, and Nevada Counties, California. Parts of the project are located within the Tahoe and Plumas National Forests.

g. Filed Pursuant to: Federal Power Act, 16 U.S.C. 791 (a) 825(r) and sections 799 and 801.

h. Applicant Contact: Mr. Curt Aikens, Yuba County Water Agency, 1402 D Street, Marysville, CA 95901. Phone (530) 741-6278.

i. FERC Contact: Any questions on this notice should be addressed to Mr. Robert Fletcher at (202) 502-8901, or e-mail address: robert.fletcher@ferc.gov.

j. Deadline for filing comments and or motions: May 16, 2005.

k. Description of Request: The licensee requests approval to construct and operate a 3,000 cubic feet per second (cfs) synchronous flow bypass system and to revise flow reduction and fluctuation criteria under article 33(d) of the license for the Narrows II development. Currently, the licensee is only capable of bypassing 650 cfs through the plant, which has a capacity of 3,400 cfs under full generation load. The proposed bypass system will allow the licensee, especially during emergency shutdown periods, to be able to minimize flow fluctuations downstream. The licensee has consulted with the California Department of Fish and Game, U.S. Fish and Wildlife Service and the National Oceanic and Atmospheric Administration's National Marine Fisheries Service (NOAA Fisheries). The NOAA Fisheries, in anticipation of the licensee's proposal to construct the bypass system, has issued a preliminary Biological Opinion to protect the Central Valley steelhead and spring-run Chinook salmon that are listed as threatened species under the Endangered Species Act and occur downstream of the project.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-2246-047). All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Magalie R. Salas,
Secretary.

[FR Doc. E5-1866 Filed 4-20-05; 8:45 am]

BILLING CODE 6717-01-P